ENVIRONMENTAL PROTECTION AGENCY

[FRL-9920-25-Region 6]

Underground Injection Control Program; Hazardous Waste Injection Restrictions; Reissuance of a Petition for Exemption—Class I Hazardous Waste Injection; Pergan Marshall, LLC Marshall, TX

AGENCY: Environmental Protection Agency (EPA).

ACTION: Notice of a final decision on a no migration petition reissuance.

SUMMARY: Notice is hereby given that a reissuance of an exemption to the land disposal Restrictions, under the 1984 Hazardous and Solid Waste Amendments to the Resource Conservation and Recovery Act, has been denied to Pergan Marshall, LLC for two Class I injection wells located at Marshall, TX. The company was unable to demonstrate to the satisfaction of the Environmental Protection Agency by the petition reissuance application and supporting documentation that, to a reasonable degree of certainty, there would be no migration of hazardous constituents from the injection zone for as long as the waste remains hazardous. This final decision prohibits the underground injection by Pergan, of restricted hazardous wastes, into Class I hazardous waste injection wells WDW-180 and WDW-243. A public notice was issued October 2, 2014. The public comment period closed on November 18, 2014. No comments were received. This decision constitutes final Agency action and there is no Administrative appeal. This decision may be reviewed/appealed in compliance with the Administrative Procedure Act.

DATES: This action is effective as of November 24, 2014.

ADDRESSES: Copies of the petition reissuance and all pertinent information relating thereto are on file at the following location: Environmental Protection Agency, Region 6, Water Quality Protection Division, Source Water Protection Branch (6WQ-S), 1445 Ross Avenue, Dallas, Texas 75202-2733.

FOR FURTHER INFORMATION CONTACT: Philip Dellinger, Chief Ground Water/UIC Section, EPA—Region 6, telephone (214) 665-8324.

Dated: November 24, 2014.
William K. Honker,
Director, Water Quality Protection Division.

[FR Doc. 2014-28810 Filed 12-8-14; 8:45 am]

BILLING CODE 6560-50-P